DEPARTMENT OF COMMERCE

National Oceanic and Atmospheric Administration

Agency Information Collection Activities; Submission to the Office of Management and Budget (OMB) for Review and Approval; Comment Request; Collection of High Resolution Spatial and Temporal Fishery Dependent Data To Support Scientific Research

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 28, 2021.

ADDRESSES: Interested persons are invited to submit written comments to Adrienne Thomas, NOAA PRA Officer, at Adrienne.thomas@noaa.gov. Do not submit Confidential Business Information or otherwise sensitive or protected information.

FOR FURTHER INFORMATION CONTACT: Requests for additional information or specific questions related to collection activities should be directed to Katie Burchard, Operations Specialist, National Marine Fisheries Service, 28 Tarzwell Drive, Narragansett, RI 02882, 508-667-8158, Katie.Burchard@noaa.gov.

SUPPLEMENTARY INFORMATION:

I. Abstract

This is a request for a new collection of information.

NOAA's National Marine Fisheries Service (NMFS) Northeast Fisheries Science Center (NEFSC) will collaborate with regional harvesters to self-collect high resolution effort and catch fishery dependent data electronically using the Fisheries Logbook Data Recording Software (FLDRS), developed by the NEFSC. For trip level, this includes information such as sail date, trip end date, crew size, port landed. For haul level, this includes information such as date/time and location of every effort, details on gear used, catch (species and species' weight) for kept and discard of every effort. The FLDRS software is installed on a laptop which is dedicated to the data collection effort. FLDRS has the ability to collect data at the subtrip level, which can be used to satisfy Federal electronic vessel trip reporting, and at a higher resolution haul level, which is used by various Cooperative Research Branch programs and projects without the data needing to be collected more than once.

Respondents will be asked to sign a one page data waiver that documents the respondent agreement to the release of the data they collect to the Northeast Fisheries Science Center Cooperative Research Branch.

The data collected will provide scientists with more precise and accurate fishery-dependent data than is collected on mandatory Federal Vessel Trip Reports (VTRs).

Collection of information about commercial fisheries is necessary to fulfill the statutory requirements of the Magnuson-Stevens Fishery Conservation and Management Act (16 U.S.C. 1801 et seq.). By collecting this high resolution, fine scale spatial and temporal fishery dependent data we are improving the data available to support improved understanding of population, ecosystem, and fishery dynamics in the northeast region. These improved understandings help the Northeast Fisheries Science Center conduct accurate stock assessments and inform fisheries management, which is essential to achieve the standards laid out in the Magnuson Stevens Act.

By collecting fine scale spatial and temporal fisheries information, fishers provide scientists with data from areas and seasons that are not sampled by Federal and state surveys. This fishery dependent data can be used with fishery independent data to improve species mapping. Fishery dependent data catch per unit effort (CPUE) calculations can be standardized and integrated into stock assessment models as indices of abundance. Collecting this fine scale commercial fisheries data also helps scientists understand patterns in fishing effort and relationships between catch and variables such as time of day, location, temperature, and depth.

II. Method of Collection

The data waiver can either be returned via email, fax or the postal service. The fishery dependent high resolution catch and effort data collection will be self-collected electronically by commercial harvesters using the Fisheries Logbook Data Recording Software (FLDRS).

III. Data

OMB Control Number: 0648-XXXX.

Form Number(s): None.

Type of Review: Regular submission: New information collection.

Affected Public: Business or other for-profit organizations.

Estimated Number of Respondents: 39.

Estimated Time per Response: Data Waiver: 6 minutes; High Resolution Catch and Effort Data Collection: 35 minutes.

Estimated Total Annual Burden Hours: 892 hours.

Estimated Total Annual Cost to Public: $39,025.74.

Respondent's Obligation: Voluntary.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-23570 Filed 10-28-21; 8:45 am]

BILLING CODE 3510-22-P